DEPARTMENT OF ENERGY

Federal Energy Regulatory Commission

[Docket No. EL05-41-000]

Xcel Energy Services, Inc. and Southwest Power Pool, Inc.; Notice of Initiation of Proceeding and Refund Effective Date

December 21, 2004.

On December 17, 2004, the Commission issued an order in the above-docketed proceeding. The Commission's order institutes a proceeding in Docket No. EL05-41-000 under section 206 of the Federal Power Act with respect to the justness and reasonableness of the market based rates of Xcel Energy Services, Inc. and Southwest Power Pool, Inc.

The refund effective date in Docket No. EL05-41-000, established pursuant to section 206(b) of the Federal Power Act will be 60 days following publication of this notice in the Federal Register.

Magalie R. Salas,
Secretary.

[FR Doc. E4-3849 Filed 12-28-04; 8:45 am]

BILLING CODE 6717-01-P